INTERNATIONAL TRADE COMMISSION

[Investigation Nos. 731-TA-847 and 849 (Second Review)]

Carbon and Alloy Seamless Standard, Line, and Pressure Pipe From Japan and Romania

Determinations

On the basis of the record ¹ developed in the subject five-year reviews, the United States International Trade Commission (Commission) determines, pursuant to section 751(c) of the Tariff Act of 1930 (19 U.S.C. 1675(c)), that revocation of the antidumping duty orders on carbon and alloy seamless standard, line, and pressure pipe from Japan and Romania would be likely to lead to continuation or recurrence of material injury to an industry in the United States within a reasonably foreseeable time.²

¹ The record is defined in sec. 207.2(f) of the Commission's Rules of Practice and Procedure (19 CFR § 207.2(f)).

² Chairman Deanna Tanner Okun and Commissioner Daniel R. Pearson dissent with respect to the determination regarding small-diameter carbon and alloy seamless standard, line, and pressure pipe from Romania.

Background

The Commission instituted these reviews on April 1, 2011 (76 FR 18251) and determined on July 5, 2011 that it would conduct expedited reviews (76 FR 44608, July 26, 2011).

The Commission transmitted its determinations in these reviews to the Secretary of Commerce on September 22, 2011. The views of the Commission are contained in USITC Publication 4262 (September 2011), entitled Carbon and Alloy Seamless Standard, Line, and Pressure Pipe from Japan and Romania: Investigation Nos. 731-TA-847 and 849 (Second Review).

By order of the Commission.
Issued: September 22, 2011.
James R. Holbein,
Secretary to the Commission.

[FR Doc. 2011-24953 Filed 9-27-11; 8:45 am]

BILLING CODE 7020-02-P